FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 9, 2011.

A. Federal Reserve Bank of Atlanta (Clifford Stanford, Vice President) 1000 Peachtree Street, NE., Atlanta, Georgia 30309:

1. Carlyle Financial Services Harbor, L.P.; CGFSP Coinvestment, L.P.; Carlyle Global Partner Master Coinvestment Cayman, L.P.; Carlyle Global Financial Services Partners, L.P.; TCG Financial Services, L.P;, Carlyle Financial Services, Ltd.; TC Group Cayman Investment Holdings, L.P.; TCG Holdings Cayman II, L.P.; DBD Cayman, Limited; TCG Financial Services Investment Holdings, L.P.; Carlyle Financial Services Holdings, Ltd., all in Grand Cayman, Cayman Islands, Daniel A. D'Aniello; William E. Conway, Jr.; David M. Rubenstein, all in Washington, D.C.; and Carlyle Investment Management, L.L.C.; TC Group, L.L.C.; and TCG Holdings, L.L.C., all in Wilmington, Delaware; to acquire voting shares of Brand Group Holdings, Inc., thereby indirectly acquire voting shares of The Brand Banking Company, both in Lawrenceville, Georgia.

Board of Governors of the Federal Reserve System, January 20, 2011.
Robert deV. Frierson,
Deputy Secretary of the Board.

[FR Doc. 2011-1496 Filed 1-24-11; 8:45 am]

BILLING CODE 6210-01-P